DEPARTMENT OF AGRICULTURE

Grain Inspection, Packers and Stockyards Administration

7 CFR Part 801

RIN 0580-AA57

Official Performance Requirements for Grain Inspection Equipment

AGENCY: Grain Inspection, Packers and Stockyards Administration, USDA.

ACTION: Direct final rule.

SUMMARY: The Grain Inspection, Packers and Stockyards Administration (GIPSA) is amending the regulations under the United States Grain Standards Act, as amended, entitled Official Performance Requirements for Grain Inspection Equipment by removing regulation on tolerance for dividers. This change is being made to simplify inspection regulations. The removed section has been determined to be unnecessary, since testing of dividers has been modified in current instructions and directives to eliminate testing with grain and to require only a visual condition examination of grain dividers.

DATES: This rule is effective December 22, 2003 without further action, unless adverse comments or written notice of intent to submit adverse comments are received by November 24, 2003. If adverse comments are received, GIPSA will publish a timely withdrawal of the rule in the Federal Register.

ADDRESSES: Comments or notice of intent must be sent to Tess Butler, USDA, GIPSA, Room 1647-S, STOP 3604, 1400 Independence Avenue, SW., Washington, DC 20250-3604, FAX (202) 690-2755. All comments received will be made available for public inspection at the above address during regular business hours (8 a.m.-3:30 p.m.) (7 CFR 1.27(b)).

FOR FURTHER INFORMATION CONTACT: John Giler, Chief, Policies and Procedures Branch at (202) 720-0252 or e-mail: John.C.Giler@usda.gov.

SUPPLEMENTARY INFORMATION: Each type (design) of grain divider receives a thorough laboratory test and evaluation, prior to approval. The type of divider must provide a statistically unbiased division of the sample into representative portions. Representative portions are sub-samples that contain the same percentage of various components as the sample from which they are taken. Also, for ease of use, each must meet criteria for accuracy and repeatability of portion weight delivered.

Testing of each individual divider on a periodic basis at field locations was intended to ensure that they function properly. After receiving recommendations from a task force on equipment testing requirements and from other experienced personnel, GIPSA determined that field testing dividers with grain samples to evaluate the weight of grain delivered to each collection pan is unnecessary. It was determined that the test was actually a user adjustment that was more appropriately performed as a maintenance function, on an as needed basis.

Because of the prior laboratory approval testing, testing of dividers was modified in instructions and directives to eliminate testing with grain and to require only a visual condition examination of grain dividers. This practice is in accord with the visual examination required of similar kinds of equipment used for sampling grain.

Executive Order 12866

The rule has been determined to be not significant for purposes of Executive Order 12866 and, therefore, has not been reviewed by the Office of Management and Budget. This action simplifies the regulations concerning official performance requirements for grain inspection equipment by removing unnecessary language. No cost to affected entities results from this action.

Executive Order 12988

This final rule has been reviewed under Executive Order 12988, Civil Justice Reform. This action is not intended to have a retroactive effect. The Act provides in section 87g that no State or subdivision may require or impose any requirements or restrictions concerning the inspection, weighing, or description of grain under the Act. Otherwise, this rule will not preempt any State or local laws, regulations, or policies, unless they present an irreconcilable conflict with this rule. There are no administrative procedures which must be exhausted prior to any judicial challenge to the provisions of this rule.

Regulatory Flexibility Act Certification

Donna Reifschneider, Administrator, GIPSA, has determined that this rule will not have a significant economic impact on a substantial number of small entities as defined in the Regulatory Flexibility Act (5 U.S.C. 602 et seq.). This action simplifies the regulations concerning official performance requirements for grain inspection equipment by removing unnecessary language concerning testing of dividers. There currently are 56 official agencies, 43 private, 7 States and 6 delegated states under the United States Grain Standards Act. Most users of the official inspection and weighing services and those entities that perform these services do not meet the requirements for small entities. Further the regulations are applied equally to all entities.

Information Collection and Recordkeeping Requirements

This rule contains no information collection or recordkeeping requirements under the Paperwork Reduction Act of 1995. (44 U.S.C. 3501, et seq.)

Background

FGIS is publishing this rule without a prior proposal because we view this action as noncontroversial and anticipate no adverse public comment. This rule will be effective, as published in this document, 60 days after the date of publication in the Federal Register unless we receive written comments or written notice of intent to submit comments within 30 days of the date of publication of this rule in the Federal Register. Adverse comments are comments that suggest the rule should not be adopted or suggest the rule should be changed.

If we receive written comments or written notice of intent to submit comments, we will publish a notice in the Federal Register withdrawing this rule before the effective date. We will then publish a proposed rule for public comment. Following the close of that comment period, the comments will be considered and a final rule addressing the comments will be published.

As discussed above, if we receive no written comments or written notice of intent to submit comments within 30 days of publication of this direct final rule, this final rule will become effective 60 days following its publication. We will publish a notice to this effect in the Federal Register, before the effective date of this final rule, confirming that it is effective on the date indicated in this document.

List of Subjects in 7 CFR Part 801

Grain inspection, Scientific equipment, and Weighing.

For reasons set forth in the preamble, 7 CFR part 801 is amended as follows:

1. The authority citation for Part 801 continues to read as follows:

Authority: Pub. L. 94-582,90 Stat.2867, as amended, (7 U.S.C. 71 et seq.).

§ 801.10 [Removed]

2. Section 801.10 is removed from the CFR and is reserved.

Donna Reifschneider,
Administrator.

[FR Doc. 03-26388 Filed 10-22-03; 8:45 am]

BILLING CODE 3410-EN-P